DEPARTMENT OF THE INTERIOR

Bureau of Reclamation

[FES-06-10]

Carlsbad Project, New Mexico

AGENCY: Bureau of Reclamation, Interior.

ACTION: Notice of Availability for the Carlsbad Project Water Operations and Water Supply Conservation Final Environmental Impact Statement.

SUMMARY: The Bureau of Reclamation (Reclamation) and the New Mexico Interstate Stream Commission, as joint lead agencies, have prepared and made available to the public a final environmental impact statement (FEIS) pursuant to Section 102(2)(c) of the National Environmental Policy Act of 1969, as amended, 42 United States Code 4332.

ADDRESSES: Copies of the FEIS are available for public inspection and review at the following locations:

• Albuquerque Main Library, 501 Copper NW, Albuquerque, New Mexico 87102.

• Bureau of Reclamation, Albuquerque Area Office, 555 Broadway NE, Suite 100, Albuquerque, New Mexico 87102.

• Carlsbad Irrigation District, 201 South Canal Street, Carlsbad, New Mexico 88220.

The FEIS is also available on the Internet at the following Web address: http://www.usbr.gov/uc/albuq/envdocs/index.html.

FOR FURTHER INFORMATION CONTACT: Ms. Marsha Carra, Bureau of Reclamation, Albuquerque Area Office, 555 Broadway NE, Suite 100, Albuquerque, New Mexico 87102; telephone (505) 462-3602; facsimile (505) 462-3780; e-mail: mcarra@uc.usbr.gov or Ms. Coleman Smith, New Mexico Interstate Stream Commission, P.O. Box 25102, Santa Fe, New Mexico 87504; telephone (505) 476-0551; e-mail: coleman.smith@state.nm.us.

SUPPLEMENTARY INFORMATION: The Carlsbad Project Water Operations and Water Supply Conservation FEIS describes the potential effects of proposed changes in the operation of Sumner Dam and the implementation of a water acquisition program in the Pecos River Basin. The FEIS includes a description of alternative means of implementing the proposed Federal action and presents an evaluation of the environmental, economic, and social consequences that could result from implementing these alternatives.

Proposed changes in water operations are designed to avoid the likelihood of jeopardy to the Pecos bluntnose shiner (Notropis simus pecosensis) (shiner) and its designated critical habitat. The water acquisition program is proposed to conserve the Carlsbad Project water supply.

Background

In 1987, the U.S. Fish and Wildlife Service (Service) listed the shiner, a small minnow, as a threatened species and designated two noncontiguous river reaches, totaling approximately 101 miles of the Pecos River, as critical habitat (52 FR 5295-5303). According to the Service, the shiner has undergone significant population declines and range contraction in the last 65 years and is now restricted to about 194 miles from Fort Sumner State Park to Brantley Reservoir.

Purpose and Need for Action

The purpose of Reclamation's proposed federal action is to protect the Pecos bluntnose shiner and to conserve the Carlsbad Project water supply. The proposed action is consistent with Reclamation's Endangered Species Act (ESA) compliance activities and will help conserve the Carlsbad Project water supply for authorized purposes.

Through the chosen federal action alternative, Reclamation would ensure that any discretionary action it authorizes, funds, or carries out is not likely to jeopardize the continued existence of a listed species or result in the destruction or adverse modification of critical habitat. Reclamation would continue to participate in interagency actions to protect federally-listed species and designated critical habitats, within its legal and discretionary authority.

Reclamation is proposing changes in operations of the Carlsbad Project that benefit the shiner under its existing authorities and are consistent with its ESA section 7(a) (1) obligation to conserve and protect listed species. Within the exercise of its discretionary authority, Reclamation must avoid jeopardizing the continued existence of the shiner or destroying or adversely modifying designated critical habitat (ESA section 7(a)(2)).

Reclamation has also elected to keep the Carlsbad Project water supply whole. Conserving the Carlsbad Project water supply means that Reclamation would deliver water to the project sufficient to meet all project purposes, when available. Without an accompanying program to acquire and provide water, changes to historical operations would cause reductions to the Carlsbad Project water supply.

Proposed Federal Action

Reclamation has designated the Taiban Constant Alternative as the preferred alternative. Under this alternative, Reclamation proposes to operate the Carlsbad Project to (1) divert to storage when flows at the Taiban gage are greater than 35 cfs and (2) deliver from storage Carlsbad Project water as contracted for irrigation, consistent with applicable federal and state laws and contracts. This alternative best meets the purpose of and need for the proposed action.

The Carlsbad Project Water Operations and Water Supply Conservation Draft Environmental Impact Statement (DEIS) was issued in September 2005, and a Notice of Availability of the DEIS was published in the Federal Register on September 1, 2005. The 60-day review and comment period for the DEIS ended on October 31, 2005. During the comment period, four public meetings were held and 25 formal comments were received. All comments were carefully reviewed and considered in preparing the FEIS. Where appropriate, revisions were made to the document in response to specific comments. The comments and responses, together with the final environmental impact statement, will be considered in determining whether or not to implement the proposed action.

No decision will be made on the proposed federal action until 30 days after release of the FEIS. After the 30-day waiting period, Reclamation will complete a Record of Decision. The Record of Decision will state the action that will be implemented and discuss all factors leading to that decision.

Dated: May 23, 2006.
Dave Sabo,
Assistant Regional Director—UC Region, Bureau of Reclamation.

[FR Doc. E6-8352 Filed 5-31-06; 8:45 am]

BILLING CODE 4310-MN-P